DEPARTMENT OF THE INTERIOR

Bureau of Indian Affairs

Proclaiming Certain Lands, Mt. Taylor Property, as an Addition to the Pueblo of Laguna Reservation of New Mexico

AGENCY: Bureau of Indian Affairs, Interior.

ACTION: Notice of Reservation Proclamation.

SUMMARY: This notice informs the public that the Assistant Secretary—Indian Affairs proclaimed approximately 6,883.54 acres, more or less, to be added to the Pueblo of Laguna Reservation (Laguna), New Mexico.

FOR FURTHER INFORMATION CONTACT: Ben Burshia, Bureau of Indian Affairs, Division of Real Estate Services, Mail Stop-4639-MIB, 1849 C Street, NW., Washington, DC 20240, telephone (202) 208-7737.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 467), for the land described below. The land was proclaimed to be an addition to and part of the Laguna Reservation for the exclusive use of Indians on that reservation who are entitled to reside at the reservation by enrollment or tribal membership.

Pueblo of Laguna Indian Reservation

New Mexico Principal Meridian

Cibola County, New Mexico

All of the following described tracts of land comprising a total area of 6,883.54 acres, more or less, consisting of TRACTS ONE and TWO as described below, situated within the Cebolleta Grant, in Cibola County, New Mexico, to wit:

Tract One

A tract of land situated within the exterior boundaries of the Cebolleta Grant (inside of which Grant the official U.S. Government surveys of the Public Land Survey System of Townships, Ranges, and Sections have never been established), in Cibola County, New Mexico, locally described as being within “projected” Section 18, Township 11 North, Range 6 West, New Mexico Principal Meridian, more particularly described as follows:

Beginning at the southwest corner of said Tract One, being identical with a corner of Tract Two, hereinafter described, which is a point locally described as being on the westerly line of “projected” Section 18, said line being the “projected” Range line common to Ranges 6 and 7 West, from which point the locally described southwest corner of “projected” Section 18, Township 11 North, Range 6 West, New Mexico Principal Meridian, bears S. 0°10′ W., 1348.82 feet distance, and running thence from said beginning point N. 0°10′ E., 3931.80 feet on the west boundary of Tract One, being identical with a portion of the east boundary of Tract Two, to the northwest corner of Tract One, being identical with a corner of Tract Two, said corner locally described as being the northwest corner of “projected” Section 18, Township 11 North, Range 6 West, New Mexico Principal Meridian; thence N. 88°35′ E., 3491.10 feet on the north boundary of Tract One, being identical with a portion of the south boundary of Tract Two, to the northeast corner of Tract One, said point being located on the south boundary of Tract Two and also locally described as being on the line common to “projected” Sections 7 and 18; thence S. 12°50′E., 458.10 feet; thence S. 10°19′ E., 257.70 feet; thence S. 13°46′30″ W., 336.15 feet; thence S. 27°20′40″ W., 104.15 feet; thence S. 25°00′40″ W., 161.00 feet; thence S. 45°46′20″ W., 184.25 feet; thence S. 26°06′20″ W., 614.35 feet; thence S. 33°46′20″ W., 301.65 feet; thence S. 18°42′40″ W., 625.30 feet; thence S. 5°54′20″ E., 189.10 feet; thence S. 9°49′20″ E., 141.20 feet; thence S. 13°47′20″ E., 343.85 feet to the southeast corner of Tract One; thence S. 86°53′10″ W., 764.0 feet; thence S. 78°33′30″ W., 858.6 feet; thence S. 79°23′30″ W., 177.1 feet; thence S. 55°51′20″ W., 450.0 feet; thence S. 83°47′ W., 661.3 feet to the southwest corner of Tract One and point of beginning; said Tract One containing 261.51 acres, more or less.

Tract Two

A tract of land situated within the exterior boundaries of the Cebolleta Grant (inside of which Grant the official U.S. Government surveys of the Public Land Survey System of Townships, Ranges, and Sections have never been established), in Cibola County, New Mexico, locally described as being within “projected” Townships 11 and 12 North, Ranges 6 and 7 West, New Mexico Principal Meridian, more particularly described as follows:

Beginning at the southwest corner of Tract Two, being a point on the west boundary of the Cebolleta Grant, being also a point on the east boundary of surveyed fractional Section 15 (outside the Grant), Township 11 North, Range 7 West, New Mexico Principal Meridian, from which point the southwest corner of the Cebolleta Grant bears S. 4°14′ W., 2185.00 feet distance, and running thence from said beginning point N. 89°35′ E., 3562.99 feet on the south boundary of Tract Two; thence S. 89°40′ E., 5267.37 feet; thence S. 89°53′ E., 2594.81 feet; thence N. 0°10′ E., 1348.82 feet; thence S. 89°53′ E., 2695.00 feet to a corner of Tract Two, being identical with the southwest corner of Tract One, hereinbefore described; thence N. 0°10′ E., 3931.80 feet on a portion of the east boundary of Tract Two, being identical with the west boundary of Tract One, to a corner of Tract Two, being identical with the northwest corner of Tract One; thence N. 88°35′ E., 3491.10 feet on a portion of the south boundary of Tract Two, being identical with the north boundary of Tract One, to the northeast corner of Tract One, being a point located on the south boundary of Tract Two; thence N. 88°35′ E., 1644.90 feet continuing on a portion of the south boundary of Tract Two, to a point on the east rim of Water Canyon; thence northerly along the east rim of Water Canyon by the following courses and distances: N. 26°33′ W., 362.9 feet; N. 6°03′ W., 793.92 feet; N. 17°40′ W., 646.25 feet; N. 33°30′ W., 516.80 feet; N. 48°36′ W., 576.70 feet; N. 55°29′ W., 441.21 feet; N. 37°27′ W., 230.03 feet; N. 85°54′ W., 527.15 feet; N. 50°55′ W., 917.96 feet; N. 8°51′ W., 503.30 feet; N. 18°15′ W., 1097.28 feet; N. 26°03′ W., 667.0 feet; N. 2°40′ W., 755.05 feet; N. 43°01′ W., 518.72 feet; N. 14°38′ E., 378.53 feet; N. 6°59′ W., 744.3 feet; N. 11°36′ E., 428.34 feet; N. 15°06′ W., 481.23 feet; N. 27°20′ W., 578.32 feet; N. 25°36′ E., 1072.82 feet; N. 9°46′ E., 1104.33 feet; N. 27°01′ E., 365.8 feet; N. 18°32′ W., 408.2 feet; N. 35°48′ W., 1009.6 feet; N. 28°43′ W., 246.15 feet; N. 51°19′ W., 377.23 feet; N. 63°17′ W., 696.27 feet; N. 43°57′ W., 520.75 feet; N. 27°03′ W., 680.15 feet; N. 54°11′ W., 470.7 feet; N. 74°08′ W., 420.05 feet; N. 87°44′ W., 688.4 feet; N. 72°26′ W., 682.4 feet; S. 55°03′ W., 817.02 feet; N. 71°21′ W., 1241.18 feet; S. 82°41′ W., 2523.0 feet; N. 15°53′ W., 1538.02 feet; N. 25°48′ W., 265.05 feet; N. 65°36′ W., 2848.65 feet to the northwest corner of Tract Two (Note: The Mt. Taylor Development Company plat dated December 2, 1968, shows a tie of S. 48°39′ W., 3750.25 feet distance from the northwest corner of Tract Two to the Government brass cap marking the closing corner of Sections 27 and 34, Township 12 North, Range 7 West, New Mexico Principal Meridian, on the west boundary of the Cebolleta Grant. This brass cap has geographic coordinates, in NAD 83 (CORS96), of 35°13′55.312″ N. Latitude and 107°33′51.696 W. Longitude, as determined by the U.S. Bureau of Indian Affairs in 2004, using survey-grade Global Positioning System units. The above-described 1968 plat lists no surveyor and was never recorded in the records of Cibola or Valencia Counties, but has been recorded in the records of the U.S. Bureau of Indian Affairs, Albuquerque Land Titles and Records Office.); thence from the northwest corner of Tract Two, S. 1°15′ W., 5048.84 feet on the west boundary of Tract Two, crossing Water Canyon, to a corner of Tract Two, being identical with the northwest corner of Lot No. 6 of the Mt. Taylor Development Company, Water Canyon Stockholders' Lots, as indicated on the three Mt. Taylor Development Company plats dated August 1967, September 1, 1967, and December 2, 1968 (Note: These three plats list no surveyor and were never recorded in the records of Cibola or Valencia Counties, but have been recorded in the records of the U.S. Bureau of Indian Affairs, Albuquerque Land Titles and Records Office); thence S. 88°45′ E., 100 feet continuing on a portion of the west boundary of Tract Two, being identical with the north boundary of said Lot No. 6, to a corner of Tract Two, being identical with the northeast corner of said Lot No. 6, as shown on the above-described plat dated August 1967, which is titled “Mt. Taylor Development Company, T. 12 N., R. 7 W., N.M.P.M., Water Canyon Stock Holder's Lots;” thence S. 1°15′ W., 150 feet on a portion of the west boundary of Tract Two, being identical with the east boundary of said Lot No. 6, to a point on the west boundary of Tract Two, being identical with the southeast corner of said Lot No. 6, and also identical with the northeast corner of Lot No. 5 of the Mt. Taylor Development Company, Water Canyon Stockholders' Lots, as shown on the above-described plat dated August 1967; thence S. 1°15′ W., 150 feet on a portion of the west boundary of Tract Two, being identical with the east boundary of said Lot No. 5, to a corner of Tract Two, being identical with the southeast corner of said Lot No. 5, as shown on the above-described plat dated August 1967; thence N. 88°45′ W., 100 feet continuing on a portion of the west boundary of Tract Two, being identical with the south boundary of said Lot No. 5, to a corner on the west boundary of Tract Two, being identical with the southwest corner of said Lot No. 5, as shown on the above-described plat dated August 1967; thence S. 1°15′ W., 70.9 feet on the west boundary of Tract Two, to an iron pipe, as shown on the Mt. Taylor Development Company plats dated August 1967 and September 1, 1967 (Note: Both of these plats show a tie of N. 41°59′ W., 3956.2 feet distance from this iron pipe to the previously described Government brass cap marking the closing corner of Sections 27 and 34, Township 12 North, Range 7 West, New Mexico Principal Meridian, on the west boundary of the Cebolleta Grant. The September 1, 1967 plat also states that this iron pipe is located approximately 410 feet South of the Water Canyon Creek.); thence from said iron pipe, S. 1°15′ W., 4211.72 feet on the west boundary of Tract Two, continuing across Water Canyon, to a point near the east ridge of Timber Canyon; thence WEST, 2750.01 feet to a point on the west boundary of the Cebolleta Grant, being also a point on the east boundary of surveyed fractional Section 3 (outside the Grant), Township 11 North, Range 7 West, New Mexico Principal Meridian; thence on the west boundary of the Cebolleta Grant, being identical with the west boundary of Tract Two, as follows: S. 0°58′ W., 1043.54 feet to the true point for the 6 Mile Corner (Note: The official U.S. General Land Office plat and field note records for Township 11 North, Range 7 West, New Mexico Principal Meridian, approved May 13, 1935, which describe the 1930 resurvey of this portion of the west boundary of the Cebolleta Grant, indicate that a witness corner, monumented with an iron post with brass cap, was established 12 links (7.92 feet) S. 0°58′ W. from the true point for the 6 Mile Corner. These records are on file at the U.S. Bureau of Land Management, New Mexico State Office, in Santa Fe, New Mexico.); thence from the true point for the 6 Mile Corner, S. 0°58′ W., 4871.46 feet to the 7 Mile Corner; thence S. 5°34′ W., 5184.3 feet to the 8 Mile Corner; thence S. 4°14′ W., 2527.4 feet to the southwest corner of Tract Two and point of beginning; said Tract Two containing 6,622.03 acres, more or less. (Note: This total area for Tract Two includes the formerly designated Lots No. 1 through 4 and Lots No. 7 through 15 of the Mt. Taylor Development Company, Water Canyon Stockholders' Lots, as shown on the above-described plat dated August 1967, which are totally within and now a part of Tract Two, making it unnecessary to describe them herein as separate parcels.)

The above-described lands contain a total of 6,883.54 acres, more or less, which are subject to all valid rights, reservations, rights-of-way, and easements of record.

This proclamation does not affect title to the land described above, nor does it affect any valid existing easements for public roads and highways, public utilities and for railroads and pipelines and any other rights-of-way or reservations of record.

Dated: June 19, 2007.
Carl J. Artman,
Assistant Secretary—Indian Affairs.

Editorial Note: This document was received in the Office of the Federal Register on February 5, 2008.

[FR Doc. E8-2361 Filed 2-7-08; 8:45 am]

BILLING CODE 4310-W7-P